DEPARTMENT OF COMMERCE

Foreign-Trade Zones Board

[B-64-2013]

Foreign-Trade Zone (FTZ) 277—Western Maricopa County, Arizona; Notification of Proposed Production Activity; Schoeller Arca Systems, Inc.; (Plastic Containers) Goodyear, Arizona

The Greater Maricopa Foreign Trade Zone, Inc. (GMFTZ), grantee of FTZ 277, submitted a notification of proposed production activity to the FTZ Board on behalf of Schoeller Arca Systems, Inc. (Schoeller Arca), located in Goodyear, Arizona. The notification conforming to the requirements of the regulations of the FTZ Board (15 CFR 400.22) was received on June 13, 2013.

An application is currently pending to expand FTZ 277 and include the Schoeller Arca facility as a usage-driven site (B-89-2012, 77 FR 75144, 12/19/2012). The facility is used for the production of customized plastic containers for industrial/commercial materials handling applications. Pursuant to 15 CFR 400.14(b), FTZ activity would be limited to the specific foreign-status materials and components and specific finished products listed in the submitted notification (as described below) and subsequently authorized by the FTZ Board.

Production under FTZ procedures could exempt Schoeller Arca from customs duty payments on the foreign status components used in export production. On its domestic sales, Schoeller Arca would be able to choose the duty rate during customs entry procedures that applies to the plastic containers (duty rate, 3%) for the foreign status inputs noted below. Customs duties also could possibly be deferred or reduced on foreign status production equipment.

The components and materials sourced from abroad include carbon black pigments/preparations and polypropylene pellets (duty rates—free and 6.5%, respectively).

Public comment is invited from interested parties. Submissions shall be addressed to the FTZ Board's Executive Secretary at the address below. The closing period for their receipt is August 12, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov (202) 482-1367.

Dated: June 24, 2013.
Elizabeth Whiteman,
Acting Executive Secretary

[FR Doc. 2013-15760 Filed 7-1-13; 8:45 am]

BILLING CODE 3510-DS-P